DEPARTMENT OF AGRICULTURE

Forest Service

Newspapers for Publication of Legal Notices in the Northern Region

AGENCY: Forest Service, USDA.

ACTION: Notice.

SUMMARY: This notice lists the newspapers that will be used by all Ranger Districts, Forests, Grasslands, and the Regional Office of the Northern Region to publish legal notices for public comment and decisions subject to predecisional administrative review under 36 CFR 218 and 219. The intended effect of this action is to inform interested members of the public which newspapers will be used to publish legal notices for public comment or decisions; thereby allowing them to receive constructive notice of a decision, to provide clear evidence of timely notice, and to achieve consistency in administering the objection processes.

DATES: Publication of legal notices in the listed newspapers will begin with decisions subject to administrative review that are made the first day following the date of this publication. The list of newspapers will remain in effect until another notice is published in the Federal Register.

FOR FURTHER INFORMATION CONTACT: Regional Administrative Review Coordinator; Northern Region; P.O. Box 7669; Missoula, Montana 59807. Phone: (406) 329-3381.

SUPPLEMENTARY INFORMATION: The newspapers to be used are as follows:

Northern Region Regional Forester Decisions for:

Montana: The Missoulian, Great Falls Tribune, and The Billings Gazette;

Northern Idaho and Eastern Washington: Coeur d'Alene Press and Lewiston Tribune;

North Dakota and South Dakota: Bismarck Tribune.

Northern Region Forest Supervisor and District Ranger Decisions for:

Beaverhead/Deerlodge National Forest (NF)—Montana Standard;

Bitterroot NF—Ravalli Republic;

Custer NF—Billings Gazette (Montana); Rapid City Journal (South Dakota);

Dakota Prairie Grasslands—Bismarck Tribune (North and South Dakota);

Flathead NF—Daily Inter Lake;

Gallatin NF—Bozeman Chronicle;

Helena NF—Independent Record;

Idaho Panhandle NFs—Coeur d'Alene Press;

Kootenai NF—Missoulian (Note this change as it was previously the Daily Inter Lake);

Lewis & Clark NF—Great Falls Tribune;

Lolo NF—Missoulian;

Nez Perce-Clearwater NFs—Lewiston Tribune.

Supplemental notices may be placed in any newspaper, but timeframes/deadlines will be calculated based upon notices in newspapers of record listed above.

Dated: January 26, 2015.
Faye L. Krueger,
Regional Forester.

[FR Doc. 2015-02280 Filed 2-4-15; 8:45 am]

BILLING CODE 3411-15-P